DEPARTMENT OF HOMELAND SECURITY

Coast Guard

[USCG-2004-18655]

Merchant Marine Personnel Advisory Committee

AGENCY: Coast Guard, DHS.

ACTION: Notice of meeting.

SUMMARY: A working group of the Merchant Marine Personnel Advisory Committee (MERPAC) will meet to discuss Task Statement #36 “Recommendations on a Training and Assessment Program for Officer in Charge of an Engineering Watch Coming up Through the Hawsepipe.” MERPAC advises the Secretary of Homeland Security on matters relating to the training, qualifications, licensing, certification, and fitness of seamen serving in the U.S. merchant marine. This meeting will be open to the public.

DATES: The MERPAC working group will meet on Tuesday, August 10, 2004, from 8:30 a.m. to 4 p.m. (local), and Wednesday, August 11, 2004, from 8:30 a.m. to noon (local). This meeting may adjourn early if all business is finished. Requests to make oral presentations should reach the Coast Guard on or before August 4, 2004. Written material and requests to have a copy of your material distributed to each member of the working group should reach the Coast Guard on or before August 4, 2004.

ADDRESSES: The working group of MERPAC will meet at the RTM Star Center, 2 West Dixie Highway, Dania Beach, FL 33004, Tel. (954) 921-7254. Send written material and requests to make oral presentations to Mr. Mark Gould, Commandant (G-MSO-1), U.S. Coast Guard Headquarters, 2100 Second Street, SW., Washington, DC 20593-0001. This notice is and related documents are available on the Internet at http://dms.dot.gov under Docket Number USCG-2004-18655.

FOR FURTHER INFORMATION CONTACT: For questions on this notice, contact Mr. Mark C. Gould, Assistant to the Executive Director, telephone (202) 267-6890, fax (202) 267-4570, or e-mail mgould@comdt.uscg.mil or Mr. Gerald Miante, Telephone (202) 267-0214 or e-mail gmiante@comdt.uscg.mil. Further directions regarding the location of the RTM Star Center may be found at: http://www.star-center.com/STAR_Center/Dania%20Home.htm.

SUPPLEMENTARY INFORMATION: Notice of this meeting is given under the Federal Advisory Committee Act, 5 U.S.C. App. 2 (Pub. L. 92-463, 86 Stat.770, as amended).

Agenda of August 10-11, 2004 Meeting: The working group will meet to discuss Task Statement #36 “Recommendations on a Training Program for Officers in Charge of an Engineering Watch Coming up Through the Hawsepipe.” The working group will develop a training program containing the minimum requirements for a U.S. license as Third Assistant Engineer, and STCW Certificate as Officer in Charge of an Engineering Watch on sea-going vessels under the International Convention on Standards of Training, Certification and Watchkeeping for Seafarers (STCW), as amended (available for purchase from the International Maritime Organization, 4 Albert Embankment, London SE1 7SR, England). At the end of the meeting, the working group will re-cap its discussions and prepare their program for the full committee to consider at its next meeting.

Procedural

This meeting is open to the public. Please note that the meeting may adjourn early if all business is finished. At the Chair's discretion, members of the public may make oral presentations during the meeting. If you would like to make an oral presentation at the meeting, please notify Mr. Gould or Mr. Miante no later than August 4, 2004. Written material for distribution at the meeting should reach the Coast Guard no later than August 4, 2004. If you would like a copy of your material distributed to each member of the committee or working group in advance of the meeting, please submit 25 copies to either Mr. Gould or Mr. Miante no later than August 4, 2004.

Information on Services for Individuals With Disabilities

For information on facilities or services for individuals with disabilities or to request special assistance at the meeting, contact Mr. Gould or Mr. Miante at the numbers listed in FOR FURTHER INFORMATION CONTACT as soon as possible.

Dated: July 22, 2004.
Joseph J. Angelo,
Director of Standards, Marine Safety, Security and Environmental Protection.

[FR Doc. 04-17267 Filed 7-28-04; 8:45 am]

BILLING CODE 4910-15-P